DEPARTMENT OF JUSTICE

Notice of Lodging of Consent Decree Pursuant to the Clean Air Act

Notice is hereby given that on October 5, 2009, the United States lodged a proposed Consent Decree (“Consent Decree”) in the United States District Court for the Eastern District of Louisiana in the matter captioned United States and State of Louisiana v. Mosaic Fertilizer, LLC, Civil Action No. 2:09-cv-6662.

In this action, the United States and the State of Louisiana sought injunctive relief and civil penalties in connection with sulfur dioxide (“SO2”) emitted from two sulfuric acid production units at the Mosaic Fertilizer, LLC (“Mosaic”) Uncle Sam plant, located in Uncle Sam, Louisiana. The United States and the State of Louisiana alleged in a complaint (“Complaint”) filed simultaneously with the lodging of the Consent Decree that Mosaic was liable under the New Source Review Prevention of Significant Deterioration (“PSD”) provisions of the Clean Air Act, 42 U.S.C. 7475(a), and the PSD provisions of the federally-approved Louisiana Air Control Commission Implementation Plan, for the failure to obtain a preconstruction PSD permit incorporating the best available control technology (“BACT”) when modifications were made to the sulfuric acid production units known as the Uncle Sam A Train and Uncle Sam D Train, and for the subsequent operation of those units without a PSD permit incorporating BACT. The Complaint also alleged that Mosaic violated the New Source Performance Standards (“NSPS”), set forth at 40 CFR 60.82-60.84, promulgated by EPA under Section 111(b)(1) of the Clean Air Act, 42 U.S.C. 7411(b)(1), which became applicable to the Uncle Sam A Train upon its modification.

Under the terms of the Consent Decree, the civil claims for relief concerning the Uncle Sam Plant A Train and D Train would be resolved, and Mosaic would be required to (1) reduce emissions of SO2 from the Uncle Sam A Train and D Train to rates consistent with BACT; and (2) pay a civil penalty of $2.4 million ($1.8 million to the United States and $600,000 to the State of Louisiana). In addition, Mosaic will undertake a project to reduce SO2 emissions from the third sulfuric acid production unit at the Uncle Sam plant, known as the Uncle Sam E Train. For reasons independent of this civil action, Mosaic has ceased sulfuric acid production at its Mulberry plant in Bartow, Florida, and plans to permanently terminate production at that facility. The Consent Decree prohibits Mosaic from using the emission credits generated by that shutdown to permit increased SO2 emissions at another of its facilities.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al. v. Mosaic Fertilizer, LLC, D.J. Ref. No. 90-5-2-1-08957.

The Consent Decree may be examined at the Office of the United States Attorney, 500 Poydras Street, Room B-210, New Orleans, Louisiana 70130 and at U.S. EPA Region 6, 1445 Ross Avenue, Suite 1200, Dallas, Texas 75202-2733. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 for a copy of a version without signature pages and appendices (25 cents per page reproduction cost), or $22.00 for a copy of a version that includes all signature pages and appendices, payable to the U.S. Treasury or, if by e-mail or fax, forward a check in the stated amount for the version selected to the Consent Decree Library at the stated address.

Maureen Katz,
Assistant Chief, Environmental Enforcement Section, Environment and Natural Resources Division.

[FR Doc. E9-24366 Filed 10-8-09; 8:45 am]

BILLING CODE 4410-15-P